DEPARTMENT OF COMMERCE

Foreign-Trade Zones Board

[Docket 36-2006]

Foreign-Trade Zone 153—San Diego, CA; Application for Subzone Status; QUALCOMM Incorporated; (Digital Wireless Telecommunication Products)

An application has been submitted to the Foreign-Trade Zones Board (the Board) by the City of San Diego, grantee of FTZ 153, requesting special-purpose subzone status for the manufacturing facilities of QUALCOMM Incorporated, located in San Diego, California. The application was submitted pursuant to the provisions of the Foreign-Trade Zones Act, as amended (19 U.S.C. 81a-81u), and the regulations of the Board (15 CFR part 400). It was formally filed on August 15, 2006.

The QUALCOMM facilities (42 buildings/5,834,524 sq. ft./257 acres/7600 employees) are located at: Site 1—10945 Vista Sorrento Parkway; Site 2—4243 Campus Point Court, 10290 and 10300 Campus Point Drive, and 10555 Sorrento Valley Road; Site 3—4755, 4795, 4835 and 4875 Eastgate Mall; and, Site 4—6262, 6455 and 6965 Lusk Boulevard, 10185 McKeller Court, 9940 and 9950 Barnes Canyon Road, 9685 Scranton Road, 5355 and 5375 Mira Sorrento Place, 5717, 5739, 5745, 5751, 5788, 5808, 5828 and 5985 Pacific Center Boulevard, 10145 Pacific Heights Boulevard, 5525-5565, 5580, 5665 and 5775 Morehouse Drive, 10309 Pacific Center Court, and 9380 and 9393 Waples Street.

The facilities are used for research and development, product testing, manufacturing, packaging, warehousing and distribution of digital wireless telecommunications products. Finished products from the manufacturing and kitting operations could include mobile communication terminal kits, test telephones and antenna control units (all duty-free). Imported parts and components that may initially be imported into the proposed subzone for manufacturing and kitting include: Antenna assemblies; cable assembly kits; keypads; labels; protectors, cap plugs; timing belts; o-rings and gaskets; screws; antenna mountings; aluminum tape; steppers; round nylon standoffs; mounting frames; delrin spacers; battery packs; receivers with adapters; parts of cellular telephony including enhanced display units, keyboards, lens assemblies, radome assemblies and filter saws; SIM cards; directional chip couplers; inductor chips; dual mode amplifiers; GPS mounting cups and cable straps; adhesive rings for GPS cups; self-thread screwlock inserts; motor-mounting nut plates; chip inductors; CPA boot codes; GPS radome patch antennas; PTC resettable poly-switches; input connector receptacles; conn. housing/solder contacts; and, digital ACU cable assemblies. Duty rates on these inputs range from duty-free to 8.6 percent.

The application also requests authority to include a broad range of inputs for other telecommunication products that QUALCOMM may produce under FTZ procedures in the future. (New major activity involving these inputs/products would require review by the FTZ Board.) The duty rates for these inputs and final products range from duty-free to 20 percent.

FTZ procedures would exempt QUALCOMM from Customs duty payments on foreign products that are re-exported. On domestic sales, the company would be able to defer duty payments until merchandise is shipped from the facility and entered for U.S. consumption, and to choose the duty rate that applies to the finished product instead of the rates applicable to the foreign input materials. QUALCOMM would be able to avoid duty on foreign merchandise which becomes scrap/waste, and the company also expects to realize additional savings through the use of weekly entry procedures and zone to zone transfers. The application indicates that the company will realize certain logistical benefits through the simplification and expediting of their import and export activity. QUALCOMM believes that all of the above-cited savings from FTZ procedures would help improve the facilities' international competitiveness.

In accordance with the Board's regulations, a member of the FTZ staff has been designated examiner to investigate the application and report to the Board.

Public comment is invited from interested parties. Submissions (original and 3 copies) shall be addressed to the Board's Executive Secretary at the address below. The closing period for their receipt is October 20, 2006. Rebuttal comments in response to material submitted during the foregoing period may be submitted during the subsequent 15-day period (to November 6, 2006).

A copy of the application and accompanying exhibits will be available for public inspection at each of the following locations: U.S. Department of Commerce Export Assistance Center, 6363 Greenwich Dr, Suite 230, San Diego, CA 92122; and, Office of the Executive Secretary, Foreign-Trade Zones Board, Room 1115, U.S. Department of Commerce, 1401 Constitution Avenue, NW., Washington, DC 20230.

Dated: August 15, 2006.
Andrew McGilvray,
Acting Executive Secretary.

[FR Doc. E6-13788 Filed 8-18-06; 8:45 am]

BILLING CODE 3510-DS-P